INTERNATIONAL TRADE COMMISSION

Notice Concerning the Appointment of the Commission's Administrative Law Judges for Section 337 Investigations

AGENCY: U.S. International Trade Commission.

ACTION: Notice.

SUMMARY: Notice is hereby given that the U.S. International Trade Commission's administrative law judges (“ALJs”) have been appointed in conformance with the Appointments Clause of the U.S. Constitution and with the Tariff Act.

FOR FURTHER INFORMATION CONTACT: Mercedeh Momeni, Office of the General Counsel, U.S. International Trade Commission, 500 E Street SW, Washington, DC 20436, telephone (202) 205-3152. General information concerning the Commission may also be obtained by accessing its internet server at http://www.usitc.gov. Hearing-impaired persons are advised that information on this matter can be obtained by contacting the Commission TDD terminal on (202) 205-1810.

SUPPLEMENTARY INFORMATION: Section 337 of the Tariff Act of 1930, as amended (19 U.S.C. 1337), provides for certain determinations to be “made on the record after notice and opportunity for a hearing in conformity with the provisions of subchapter II of chapter 5 of title 5.” 19 U.S.C. 1337(c). Pursuant to subchapter II of chapter 5 of title 5, the Commission employs ALJs to conduct formal adjudications and to make initial and recommended determinations. 5 U.S.C. 556-557; 19 CFR 210.3 (“administrative law judge”). Pursuant to section 331 of the Tariff Act, 19 U.S.C. 1331, the Chairman of the Commission has the authority to “appoint and fix the compensation of such employees of the Commission as he deems necessary,” including ALJs. 19 U.S.C. 1331(a)(1)(A)(1). Any such decision by the Chairman, however, is “subject to disapproval by a majority vote of all the commissioners in office.” 19 U.S.C. 1331(a)(1)(C).

The Appointments Clause of the Constitution, art. II, § 2, cl. 2, provides, in relevant part, that Congress may vest the appointment of inferior officers “in the Heads of Departments.” In 2018, the Supreme Court decided that the ALJs of the Securities and Exchange Commission (“SEC”) are inferior officers whose appointments were to be made by the SEC and not by the SEC's staff. Lucia v. SEC, 138 S. Ct. 2044, 2053-54 (2018); see Free Enterprise Fund v. Public Company Accounting Oversight Bd., 561 U.S. 477, 512 (2010).

On September 10, 2018, the Commission published a Federal Register notice that indicated that the Commission's then-existing ALJs, including Judge MaryJoan McNamara, had been ratified by the Commission in March of 2018. Notice, 83 FR 45678-79 (Sept. 10, 2018). The notice indicated that, as part of Clark S. Cheney's original appointment, the Commission, including the Chair, voted, by notational voting, in February of 2018 to appoint Judge Cheney as an ALJ. Id. By the same Commission vote that led to the issuance of the September 2018 notice, the Commission also ratified the appointments of, inter alia, Judges McNamara and Cheney. Id.

Since that time, the Commission has hired Cameron Elliot, Monica Bhattacharyya, Bryan F. Moore, and Doris Johnson Hines as ALJs. As part of their original appointments, the Commission, including the Chair, voted, by notational voting, to appoint each ALJ. In particular, the Commission voted to appoint Judge Elliot on March 4, 2019; Judge Bhattacharyya on August 12, 2021; Judge Moore on March 17, 2022; and Judge Johnson Hines on November 16, 2022. In addition, the Commission, including the Chair, voted on January 4, 2022, to elevate Judge Cheney to Chief ALJ as part of his appointment as Chief ALJ.

The hiring of the Commission's ALJs is, and has been, consistent with the Appointments Clause and with the Commission's organic statute. Accordingly, the Commission's ALJs have all been appointed and/or ratified in conformance with the Constitution and all applicable statutes and regulations. In addition, by this Notice, the Commission reiterates its approval of the appointments of Judges McNamara, Cheney, Elliot, Bhattacharyya, Moore, and Johnson Hines as its own under the Constitution.

By order of the Commission.
Issued: November 21, 2025.
Sharon Bellamy,
Supervisory Hearings and Information Officer.

[FR Doc. 2025-21130 Filed 11-25-25; 8:45 am]

BILLING CODE 7020-02-P